MERIT SYSTEMS PROTECTION BOARD

5 CFR Part 1201

Practices and Procedures

AGENCY: Merit Systems Protection Board.

ACTION: Final rule.

SUMMARY: The Merit Systems Protection Board (MSPB or the Board) is amending its rules of practice and procedure in this part to change two citations to Office of Personnel Management regulations and to replace the MSPB Appeal Form contained in Appendix I with the latest version of this form. The Board also provides notice to Federal agencies that bulk supplies of the MSPB Appeal Form may be ordered directly from the Board.

EFFECTIVE DATE: June 7, 2001.

FOR FURTHER INFORMATION CONTACT: Robert E. Taylor, Clerk of the Board, (202) 653-7200.

SUPPLEMENTARY INFORMATION: The Board is amending its rules of practice and procedure at 5 CFR 1201.3(a)(6) and 5 CFR 1201.3(a)(7) to change citations to regulations of the Office of Personnel Management (OPM). The Board is also amending Appendix I to 5 CFR part 1201 to replace the MSPB Appeal Form with the latest version of this form and is providing notice to Federal agencies that bulk supplies of the MSPB Appeal Form may be ordered directly from the Board.

On March 19, 2001, OPM published an interim rule to implement the Federal Erroneous Retirement Coverage Corrections Act (FERCCA), enacted as Title II of Public Law 106-265 on September 19, 2000 (66 FR 15605). The rule consists of revisions to regulations contained in 5 CFR parts 831, 841 and 846, and the addition of a new part 839, “Correction of Retirement Coverage Errors under the Federal Erroneous Retirement Coverage Corrections Act.” Subpart M—Appeal Rights—of the new 5 CFR part 839 includes provisions on appeals to the Board. The Board's regulation at 5 CFR 1201.3(a)(6) provides notice that determinations affecting the rights or interests of an individual or of the United States under the Civil Service Retirement System or the Federal Employees Retirement System may be appealed to the Board. The regulation includes citations to both the statutory provisions that make such determinations appealable and to the applicable OPM regulations. In order to conform its regulations to the revised OPM regulations, therefore, the Board is amending its regulation at 5 CFR 1201.3(a)(6) to include the appropriate citations to FERCCA and the new 5 CFR part 839. The Board is also adding a citation to 5 CFR part 846, “Federal Employees Retirement System—Elections of Coverage.” This part, which governs earlier elections to transfer to FERS, also includes provisions on appeals to the Board.

On December 28, 2000, OPM published revisions to its regulations at 5 CFR part 731, “Suitability,” with an effective date of January 29, 2001 (65 FR 82239). Subsequently, OPM deferred the effective date of these regulations until March 30, 2001 (66 FR 7863, January 26, 2001). The revised OPM regulations at § 731.501 provide notice of the right to appeal a suitability determination to the Board. Prior to this revision, there were two separate provisions providing notice of an appeal right to MSPB—§ 731.103(d) for suitability determinations made by an agency under authority delegated by OPM and § 731.501 for suitability determinations made by OPM—and the Board included a citation to both of these provisions in its regulation at 5 CFR 1201.3(a)(7). In order to conform its regulations to the revised OPM regulations, therefore, the Board is amending its regulation at 5 CFR 1201.3(a)(7) to update the citation.

Prior to reprinting the MSPB Appeal Form, which is published as Appendix I to 5 CFR part 1201, the Board updated the “Instructions” to reflect several changes in law and the Board's regulations since the form was last reprinted in 1994. The current version of the form is Optional Form 283 (Rev. 11/00). Accordingly, the Board is amending 5 CFR part 1201 at Appendix I to replace the 10/94 edition of the form with the current version.

The Board is also taking this opportunity to provide notice to Federal agencies that bulk orders for the MSPB Appeal Form may be directed to MSPB by e-mail to APPEALFORM@mspb.gov, by facsimile to 202-653-7821, or by telephone to Richard Dorr, 202-653-6772, extension 1113. The Appeal Form is also available for downloading and printing from the MSPB website, www.mspb.gov. The form is a portable document format (PDF) file, and the Adobe Acrobat Reader is required.

The Board is publishing this rule as a final rule pursuant to 5 U.S.C. 1204(h).

List of Subjects in 5 CFR Part 1201

Administrative practice and procedure, Civil rights, Government employees.

Accordingly, the Board amends 5 CFR part 1201 as follows:

PART 1201—PRACTICES AND PROCEDURES

1. The authority citation for part 1201 continues to read as follows:

Authority: 5 U.S.C. 1204 and 7701, unless otherwise noted.

§ 1201.3 [Amended]

2. Amend 5 CFR 1201.3 at paragraph (a)(6) by removing the citation “(5 CFR parts 831, 842, and 844; 5 U.S.C. 8347(d)(1)-(2) and 8461(e)(1))” and by adding in its place “(5 CFR parts 831, 839, 842, 844, and 846; 5 U.S.C. 8347(d)(1)-(2) and 8461(e)(1); and 5 U.S.C. 8331 note, Federal Erroneous Retirement Coverage Corrections Act)”.

3. Amend 5 CFR 1201.3 at paragraph (a)(7) by removing the citation “(5 CFR 731.103(d) and 731.501)” and by adding in its place “(5 CFR 731.501)”.

4. Revise Appendix I to part 1201 to read as follows:

Appendix I to Part 1201—Merit Systems Protection Board Appeal Form

BILLING CODE 7400-01-U

Dated: June 4, 2001.
Robert E. Taylor,
Clerk of the Board.

[FR Doc. 01-14388 Filed 6-6-01; 8:45 am]

BILLING CODE 7400-01-C